NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before November 20, 2000. Once the appraisal of the records is completed, NARA will send a copy of the schedule. NARA staff usually prepare appraisal memorandums that contain additional information concerning the records covered by a proposed schedule. These, too, may be requested and will be provided once the appraisal is completed. Requesters will be given 30 days to submit comments.

ADDRESSES: To request a copy of any records schedule identified in this notice, write to the Life Cycle Management Division (NWML), National Archives and Records Administration (NARA), 8601 Adelphi Road, College Park, MD 20740-6001. Requests also may be transmitted by FAX to 301-713-6852 or by e-mail to records.mgt@arch2.nara.gov. Requesters must cite the control number, which appears in parentheses after the name of the agency which submitted the schedule, and must provide a mailing address. Those who desire appraisal reports should so indicate in their request.

FOR FURTHER INFORMATION CONTACT: Marie Allen, Director, Life Cycle Management Division (NWML), National Archives and Records Administration, 8601 Adelphi Road, College Park, MD 20740-6001. Telephone: (301) 713-7110. E-mail: records.mgt@arch2.nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of the Air Force, Office of the Air Staff (N1-341-00-1, 9 items, 4 temporary items). Older records accumulated between 1951 and 1983 relating to medical research and experiments and to routine construction projects. Proposed for permanent retention are records documenting such subjects as significant military base construction projects, aircraft and equipment modifications, intelligence reporting, and expenditures relating to civilian injuries in Laos and U.S. operations in the Congo and Berlin.

2. Department of the Army, U.S. Army Security Affairs Command (N1-AU-00-18, 2 items, 2 temporary items). Case files pertaining to international logistics programs for materiel and services. Included are documents relating to individual foreign country requirements, fiscal records, and copies of programs, offers, and acceptances. Also included are electronic copies of documents created using electronic mail and word processing.

3. Department of Health and Human Services, Health Care Financing Administration (N1-440-00-01, 5 items, 5 temporary items). Paper and electronic copies of questionnaires completed by newly enrolled Medicare beneficiaries containing information concerning the individual's coverage under a primary insurance plan, including the name, address, and identifying number of the plan. Also included are electronic copies of documents created using electronic mail and word processing.

4. Department of the Interior, Bureau of Land Management (N1-49-00-4, 6 items, 6 temporary items). Records relating to Computer Century Conversion (Y2K) activities. Included are policy and planning documents, administrative records, and files summarizing the actions taken for specific systems. Also included are electronic copies of documents created using electronic mail and word processing.

5. Department of Justice, Federal Bureau of Investigation (N1-65-00-6, 8 items, 8 temporary items). Year 2000 (Y2K) conversion records. Included are such records as plans, lists of applications or systems, testing documentation, reviews of Y2K programs, contracts, correspondence with vendors, and correspondence with Congress, the Office of Management and Budget, and the General Accounting Office. Also included are electronic copies of documents created using electronic mail and word processing.

6. Department of Justice, Bureau of Prisons (N1-129-99-12, 34 items, 21 temporary items). Files accumulated by component offices of the Information, Policy, and Public Affairs Division. Included are such records as chronological and subject files, files on proposed legislation and other aspects of congressional relations, research proposals, background materials compiled for tours of facilities, files on media contacts, and electronic copies of documents created using electronic mail and word processing. Recordkeeping copies of files documenting overall Bureau activities and programs are proposed for permanent retention, including briefing books, newsletters, publications, photographs, videotapes, speeches and directives.

7. Department of Justice, Bureau of Prisons (N1-129-00-8, 6 items, 6 temporary items). Records of correctional facilities relating to inmate education programs. Included are such files as attendance records, general equivalency diploma test scores, lesson plans, certificates, and minutes of vocational training advisory committees. Also included are electronic copies of documents created using electronic mail and word processing.

8. Department of Justice, Federal Bureau of Prisons (N1-129-00-28, 4 items, 4 temporary items). Records of the Trust Fund, which handles commissaries, telephone systems, and warehouse and clothing operations. Included are records relating to such matters as daily operations, financial management reviews, funding of overtime, position descriptions, and annual reports. Also included are electronic copies of documents created using electronic mail and word processing.

9. Department of Justice, Federal Bureau of Prisons (N1-129-00-29, 3 items, 3 temporary items). Records of the Budget Development Branch, including the agency's official budget files, subject files, and electronic copies of documents created using electronic mail and word processing.

10. Department of Justice, Federal Bureau of Prisons (N1-129-00-31, 5 items, 5 temporary items). Records of the Budget Execution Branch, including such files as budget execution correspondence, financial reports, forms and other records relating to personnel positions within the agency, and reports that identify operating costs for individual facilities on a per-capita basis. Also included are electronic copies of documents created using electronic mail and word processing.

11. Department of Justice, Federal Bureau of Prisons (N1-129-00-32, 5 items, 5 temporary items). Records of the Capacity Planning Branch. Included are such files as requests for data, statistical summaries, subject files relating to population projections and capacity planning, and daily printouts of statistical data by institution. Also included are electronic copies of documents created using electronic mail and word processing.

12. Department of Justice, Federal Bureau of Prisons (N1-129-00-33, 2 items, 2 temporary items). Records of the Facilities Management Branch. Records relate to such subjects as the cleanup of polluted sites, violations of the Clean Water Act, and the identification of environmental hazards and the procedures for their removal. Also included are electronic copies of documents created using electronic mail and word processing.

13. Department of Justice, Federal Bureau of Prisons (N1-129-00-34, 2 items, 2 temporary items). Records of the Finance Branch consisting of financial statements and related records as well as electronic copies of documents created using electronic mail and word processing.

14. Department of Justice, Federal Bureau of Prisons (N1-129-00-35, 5 items, 5 temporary items). Records of the Procurement and Property Branch, including Branch copies of controlled correspondence, agreements with other agencies and with state and local governments, and electronic copies of documents created using electronic mail and word processing.

15. Department of State (N1-59-00-3, 16 items, 16 temporary items). Files identified as lacking historical value during the review of office files with terminal dates from 1967 through 1975. Included are subject files, country files, and other files that either are fragmentary, duplicative of records included in series previously approved for permanent retention, deal with housekeeping matters, or were maintained for convenience of reference. Records were accumulated by the Bureau of Administration, the Bureau of Inter-American Affairs, the Bureau of African Affairs, the Bureau of East Asian and Pacific Affairs, the Bureau of Economic and Business Affairs, the Bureau of European Affairs, the Inspector General of the Foreign Service, the Bureau of Intelligence and Research, the Bureau of International Organization Affairs, the Office of the Legal Adviser, the Deputy Under Secretary of State for Administration/Management, the Bureau of Near Eastern and South Asian Affairs, the Bureau of Oceans and International Environmental and Scientific Affairs, the Bureau of Security and Consular Affairs, the Executive Secretariat, and the Bureau of International Scientific and Technological Affairs.

16. Department of State, Moscow Embassy Control Office (N1-59-00-20, 20 items, 15 temporary items). Records of the Moscow Embassy Control Office, including shipping files, contractor files, security logs and videotapes, and outdated copies of design drawings. Also included are electronic copies of documents created using electronic mail and word processing. Recordkeeping copies of subject files, special studies, counter-intelligence files, slides, videotapes, and photographs are proposed for permanent retention.

17. Federal Aviation Administration, Office of the Chief Counsel (N1-237-00-1, 6 items, 6 temporary items). Civil penalty hearing docket records pertaining to alleged violations of Federal Aviation Regulations. Files include such documents as complaints, transcripts of hearings, decisions and opinions, and materials submitted as evidence. Also included are electronic copies of documents created using electronic mail and word processing. Recordkeeping copies of most docket records dated after December 1, 1997, are maintained on optical disks. The agency will submit separate schedules for any files that may warrant permanent retention for appraisal on a case-by-case basis.

18. National Archives and Records Administration, Agency-wide (N1-64-00-9, 4 items, 4 temporary items). Records relating to projects to provide records management assistance to Federal agencies and to public comments submitted to the National Archives and Records Administration as a result of the publication in the Federal Register of notices of pending disposition schedules. Electronic copies of documents created using electronic mail and word processing are included.

19. U.S. Tax Court, Agency-wide (N1-308-97-1, 206 items, 188 temporary items). Paper, electronic, microform, and photographic records relating to the resolution of disputed tax deficiencies. Included are such records as petitions, findings of fact and opinions, calendars, case files, depositions, files relating to attorney admissions to practice, and logs and tracking systems. Also included are records relating to agency personnel, building maintenance, and other administrative and housekeeping matters. Records proposed for permanent retention include rules of practice and procedure, published opinions, administrative orders, transcripts and other records of judicial conferences, statistical reports, press releases, and photographs.

Dated: September 28, 2000.
Michael J. Kurtz,
Assistant Archivist for Record Services—Washington, DC.

[FR Doc. 00-25662 Filed 10-5-00; 8:45 am]

BILLING CODE 7515-01-P